DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with August anniversary dates. In accordance with the Department's regulations, we are initiating those administrative reviews.

DATES: Effective October 2, 2013.

FOR FURTHER INFORMATION CONTACT: Brenda E. Waters, Office of AD/CVD Operations, Customs Liaison Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with August anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(1)(i), a copy must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name ², should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently completed segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than August 31, 2014.

| Period to be reviewed
Antidumping Duty Proceedings
Germany:
Certain Small Diameter Carbon and Alloy Seamless Standard, Line, and Pressure Pipe, A-428-820 | 8/1/12-7/31/13
Benteler Stahl/Rohr GmbH.
ESW Roehrenwerke GmbH.
Vallourec & Mannesmann Tubes-V & M Deutschland GmbH.
voestalpine AG.
voestalpine Tubulars GmbH & Co. KG.
voestalpine Rotec GmbH & Co. KG.
Japan:
Brass Sheet and Strip, A-588-704 | 8/1/12-7/31/13
Dowa Metals & Mining Co., Ltd.
Fujisawa Co., Ltd.
Furukawa Electric Co., Ltd.
Harada Metal Industry.
Hitachi Alloy, Ltd.
Hitachi Cable, Ltd.
JX Nippon Mining & Metals Corp.
Kicho Shindosho Co., Ltd.
Kitz Metal Works Corp.
Kobe Steel, Ltd.
Mitsubishi Electric Metecs Co., Ltd.
Mitsubishi Materials Corp.
Mitsubishi Shindoh Co., Ltd.
Mitsui Mining & Smelting Co., Ltd. (Mitsui Kinzoku).
Mitsui Sumitomo Metal Mining Brass & Copper Co., Ltd.
NGK Insulators (NGK Metals).
Ohki Brass & Copper Co., Ltd.
Sambo Copper Alloy Co., Ltd.
Sugino Metal Industry Co., Ltd.
Sumitomo Metal Mining Brass & Copper Co., Ltd.
Uji Copper & Alloy Co., Ltd.
YKK Corporation.
Mexico:
Light-Walled Rectangular Pipe and Tube, A-201-836 | 8/1/12-7/31/13
Maquilacero S.A. de C.V.
Regiomontana de Perfiles y Tubos S.A. de C.V.
Republic of Korea:
Large Power Transformers, A-580-867 | 2/16/12-7/31/13
Hyosung Corporation.
Hyundai Heavy Industries Co., Ltd.
ILJIN.
ILJIN Electric Co., Ltd.
LSIS Co., Ltd.
Socialist Republic of Vietnam:
Certain Frozen Fish Fillets,³ A-552-801 | 8/1/12-7/31/13
An Giang Argriculture and Foods Import-Export Joint Stock Company (also known as AFIEX).
An Giang Fisheries Import and Export Joint Stock Company (also known as Agifish or AnGiang Fisheries Import and Export).
An Phu Seafood Corporation (also known as ASeafood).
Anvifish Co., Ltd.
Anvifish Joint Stock Company (also known as Anvifish JSC).
Asia Commerce Fisheries Joint Stock Company (also known as Acomfish JSC).
Bien Dong Seafood Co., Ltd.
Binh An Seafood Joint Stock Co.
Cadovimex II Seafood Import-Export and Processing Joint Stock Company (also know as Cadovimex II).
Cantho Import-Export Joint Stock Company (CASEAMEX).
CUU Long Fish Joint Stock Company (also known as CL-Fish).
Dai Thanh Seafoods Company Limited (DATHACO).
East Sea Seafoods Limited Liability Company (ESS).
Fatifish Company Limited (FATFISH).
GODACO Seafood Joint Stock Company.
Golden Quality Seafood Corporation.
Hiep Thanh Seafood Joint Stock Company.
Hoa Phat Seafood Import-Export Processing J.S.C. (HOPAFISH).
Hoang Long Seafood Processing Co., Ltd. (Hoang Long).
Hung Vuong Seafood Joint Stock Company.
International Development & Investment Corporation (also known as IDI).
Nam Viet Corporation (NAVICO).
Ngoc Ha Co. Ltd. Food Processing and Trading.
NTSF Seafoods Joint Stock Company (also known as NTSF).
QVD Food Company, Ltd. & QVD Dong Thap Food Co., Ltd.
SaigonMekong Fishery Co., Ltd. (SAMEFICO).
Southern Fisheries Industries Company, Ltd. (also known as South Vina).
Thien Ma Seafood Company, Ltd. (also known as THIMACO).
Thuan An Production Trading & Services Co., Ltd. (TAFISHCO).
Thuan Hung Co., Ltd. (also known as THIMACO).
To Chau Joint Stock Company (TOCHAU).
Vinh Hoan Corporation.
Vinh Quang Fisheries Corporation.
Thailand:
Polyethylene Retail Carrier Bags, A-549-821 | 8/1/12-7/31/13
Beyond Packaging Co., Ltd.
Dpac Inter Corporation Co., Ltd.
Elite Poly and Packaging Co., Ltd.
Poly World Co., Ltd.
Triple B Pack Company Limited.
Two Path Plaspack Co., Ltd.
The People's Republic of China:
Certain Steel Nails,⁴ A-570-909 | 8/1/12-7/31/13
ABF Freight System, Inc.
Agritech Products Ltd.
Aihua Holding Group Co., Ltd.
Aironware (Shanghai) Co. Ltd.
Anping County Anning Wire Mesh Co.
Anping Fuhua Wire Mesh Making Co.
APM Global Logistics O/B Hasbro Toy.
Beijing Daruixing Global Trading Co., Ltd.
Beijing Daruixing Nail Products Co., Ltd.
Beijing Hong Sheng Metal Products Co., Ltd.
Beijing Hongsheng Metal Products Co., Ltd.
Beijing Jinheuang Co., Ltd.
Beijing Kang Jie Kong Cargo Agent.
Beijing KJK Intl Cargo Agent Co., Ltd.
Beijing Long Time Rich Tech Develop.
Beijing Tri-Metal Co., Ltd.
Beijing Yonghongsheng Metal Products Co., Ltd.
Besco Machinery Industry (Zhejiang) Co., Ltd.
Brighten International, Inc.
Cana (Tianjin) Hardware Ind., Co., Ltd.
Cana (Tianjin) Hardware Industrial Co., Ltd.
Century Shenzhen Xiamen Branch.
Certified Products International, Inc.
Changzhou MC I/E Co., Ltd.
Changzhou Quyuan Machinery Co., Ltd.
Changzhou Refine Flag & Crafts Co., Ltd.
Chao Jinqiao Welding Material Co., Ltd.
Chaohu Bridge Nail Industry Co., Ltd.
Chaohu Jinqiao Welding Material Co.
Chewink Corp.
Chiieh Yung Metal Ind. Corp.
Chiieh Yung Metal Industrial Corp.
China Container Line (Shanghai) Ltd.
China Silk Trading & Logistics Co., Ltd.
China Staple Enterprise (Tianjin) Co., Ltd.
Chongqing Hybest Nailery Co., Ltd.
Chongqing Hybest Tools Group Co., Ltd.
Cintee Steel Products Co., Ltd.
Cyber Express Corporation.
CYM (Nanjing) Nail Manufacture Co., Ltd.
CYM (Nanjing) Ningquan Nail Manufacture Co., Ltd.
Dagang Zhitong Metal Products Co., Ltd.
Damco Shenzhen.
Daxing Niantan Industrial.
Delix International Co., Ltd.
Dezhou Hualude Hardware Products Co., Ltd.
Dingzhou Derunda Material and Trade Co., Ltd.
Dingzhou Ruili Nail Production Co., Ltd.
Dong'e Fugiang Metal Products Co., Ltd.
Dongguan Five Stone Machinery Products Trading Co., Ltd.
ECO System Co., Ltd.
ECO System Corporation.
Elite International Logistics Co.
Elite Master International Ltd.
England Rich Group (China) Ltd.
Entech Manufacturing (Shenzhen) Ltd.
Expeditors China Tianjin Branch.
Faithful Engineering Products Co. Ltd.
Fedex International Freight Forward Agency Services (Shanghai) Co., Ltd.
Feiyin Co., Ltd.
Fension International Trade Co., Ltd.
Foreign Economic Relations & Trade.
Fujiansmartness Imp. & Exp. Co., Ltd.
Fuzhou Builddirect Ltd.
Goal Well Stone Co., Ltd.
Gold Union Group Ltd.
Goldever International Logistics Co.
Goldmax United Ltd.
Grace News Inc.
Guangdong Foreign Trade Import & Export Corporation.
Guangzhou Qiwei Imports and Exports Co., Ltd.
Guoxin Group Wang Shun I/E Co., Ltd.
GWP Industries (Tianjin) Co., Ltd.
Haierc Industry Co., Ltd.
Haixing Hongda Hardware Production Co., Ltd.
Haixing Linhai Hardware Products Factory.
Haiyan Fefine Import and Export Co.
Handuk Industrial Co., Ltd.
Hangzhou Kelong Electrical Appliance & Tools Co. Ltd.
Hangzhou New Line Co., Ltd.
Hangzhou Zhongding Imp. & Exp. Co., Ltd.
Hebei Cangzhou New Century Foreign Trade Co., Ltd.
Hebei Development Metals Co., Ltd.
Hebei Jinsidun (JSD) Co., Ltd.
Hebei Machinery Import and Export Co., Ltd.
Hebei Minmetals Co., Ltd.
Hebei My Foreign Trade Co., Ltd.
Hebei Super Star Pneumatic Nails Co., Ltd.
Henan Pengu Hardware Manufacturing Co., Ltd.
Hengshui Mingyao Hardware & Mesh Products Co., Ltd.
Heretops (Hong Kong) International Ltd.
Heretops Import & Export Co., Ltd.
Hilti (China) Limited.
HK Villatao Sourcing Co., Ltd.
Hong Kong Hailiang Metal Trading Ltd.
Hong Kong Yu Xi Co., Ltd.
Huadu Jin Chuan Manufactory Co Ltd.
Huanghua Honly Industry Corp.
Huanghua Huarong Hardware Products Co., Ltd.
Huanghua Jinhai Hardware Products Co., Ltd.
Huanghua Jinhai Metal Products Co., Ltd.
Huanghua Shenghua Hardware Manufactory Factory.
Huanghua Xinda Nail Production Co., Ltd.
Huanghua Xionghua Hardware Products Co., Ltd.
Huanghua Yufutai Hardware Products Co., Ltd.
Hubei Boshilong Technology Co., Ltd.
Huiyuan Int'l Commerce Exhibition Co., Ltd.
Jiashan Superpower Tools Co., Ltd.
Jiaxing Yaoliang Import & Export Co., Ltd.
Jinhua Kaixin Imp & Exp Ltd.
Jining Huarong Hardware Products Co., Ltd.
JISCO Corporation.
Joto Enterprise Co., Ltd.
Karuis Custom Metal Parts Mfg. Ltd.
Kasy Logistics (Tianjin) Co., Ltd.
K.E. Kingstone.
Koram Panagene Co., Ltd.
Kuehne & Nagel Ltd.
Kum Kang Trading Co., Ltd.
Kyung Dong Corp.
Le Group Industries Corp. Ltd.
Leang Wey Int. Business Co., Ltd.
Liang's Industrial Corp.
Lijiang Liantai Trading Co., Ltd.
Linhai Chicheng Arts & Crafts Co., Ltd.
Lins Corp.
Linyi Flying Arrow Imp & Exp. Co., Ltd.
Maanshan Cintee Steel Products Co., Ltd.
Maanshan Leader Metal Products Co., Ltd.
Maanshan Longer Nail Product Co., Ltd.
Manufacutersinchina (HK) Company Ltd.
Marsh Trading Ltd.
Master International Co., Ltd.
Mingguang Abundant Hardware Products Co., Ltd.
Nanjing Dayu Pneumatic Gun Nails Co., Ltd.
Nanjing Yuechang Hardware Co., Ltd.
Nanjing Yuechang Hardware Co., Ltd.
Nantong Corporation for Internation.
Ningbo Bolun Electric Co., Ltd.
Ningbo Dollar King Industrial Co., Ltd.
Ningbo Endless Energy Electronic Co., Ltd.
Ningbo Fension International Trade Center.
Ningbo Fortune Garden Tools and Equipment Inc.
Ningbo Haixin Railroad Material Co.
Ningbo Huamao Imp & Exp. Co., Ltd.
Ningbo Hyderon Hardware Co., Ltd.
Ningbo JF Tools Industrial Co., Ltd.
Ningbo KCN Electric Co., Ltd.
Ningbo Meizhi Tools Co., Ltd.
Ningbo Ordam Import & Export Co., Ltd.
OEC Logistics (Qingdao) Co., Ltd.
Omega Products International.
OOCL Logistics O B of Winston Marketing Group.
Orisun Electronics HK Co., Ltd.
Pacole International Ltd.
Pakwell Co., Ltd.
Panagene Inc.
Pavilion Investmen Ltd.
Perfect Seller Co., Ltd.
Prominence Cargo Service, Inc.
PT Enterprise Inc.
Qianshan Huafeng Trading Co., Ltd.
Qidong Liang Chyuan Metal Industry Co., Ltd.
Qingdao Bestworld Industry Trading.
Qingdao D&L Group Ltd.
Qingdao D & L Supply Group Co., Ltd.
Qingdao Denarius Manufacture Co. Limited.
Qingdao Golden Sunshine ELE-EAQ Co., Ltd.
Qingdao International Fastening Systems Inc.
Qingdao Jisco Co., Ltd.
Qingdao Koram Steel Co., Ltd.
Qingdao Lutai Industrial Products Manufacturing Co., Ltd.
Qingdao Meijia Metal Products Co.
Qingdao Rohuida International Trading Co.
Qingdao Sino-Sun International Trading Company Limited.
Qingdao Super United Metals & Wood Prods. Co., Ltd.
Qingdao Tiger Hardware Co., Ltd.
Qingfu Metal Craft Manufacturing Ltd.
Qinghai Wutong (Group) Industry Co.
Qingyuan County Hongyi Hardware Products Factory.
Qingyun Hongyi Hardware Factory.
Qinhuangdao Kaizheng Industry and Trade Co.
Q-Yield Outdoor Great Ltd.
Region International Co., Ltd.
Richard Hung Ent. Co.. Ltd.
River Display Ltd.
Rizhao Changxing Nail-Making Co., Ltd.
Rizhao Handuk Fasteners Co., Ltd.
Rizhao Qingdong Electronic Appliance Co.
Romp (Tianjin) Hardware Co., Ltd.
Saikelong Electric Appliances (Suzhou) Co.
Se Jung (China) Shipping Co., Ltd.
SDC International Aust. Pty., Ltd.
SDC International Australia Pty., Ltd.
Senco Products, Inc.
Senco-Xingya Metal Products (Taicang) Co., Ltd.
Shandex Co., Ltd.
Shandex Industrial Inc.
Shandong Dinglong Import & Export Co., Ltd.
Shandong Liaocheng Minghua Metal Products Co., Ltd.
Shandong Minmetals Co., Ltd.
Shandong Oriental Cherry Hardware Group Co., Ltd.
Shandong Oriental Cherry Hardware Import & Export Co., Ltd.
Shandong Oriental Cherry Hardware Import and Export Co., Ltd.
Shanghai Chengkai Hardware Product. Co., Ltd.
Shanghai Colour Nail Co., Ltd.
Shanghai Curvet Hardware Products Co., Ltd.
Shanghai Ding Ying Printing & Dyeing CLO.
Shanghai GBR Group International Co.
Shanghai Holiday Import & Export Co., Ltd.
Shanghai Jade Shuttle Hardware Tools Co., Ltd.
Shanghai Jian Jie International TRA.
Shanghai March Import & Export Company Ltd.
Shanghai Mizhu Imp & Exp Corporation.
Shanghai Nanhui Jinjun Hardware Factory.
Shanghai Pioneer Speakers Co., Ltd.
Shanghai Pudong Int'l Transportation Booking Dep't.
Shanghai Seti Enterprise International Co., Ltd.
Shanghai Shengxiang Hardware Co.
Shanghai Suyu Railway Fastener Co.
Shanghai Tengyu Hardware Products Co., Ltd.
Shanghai Tengyu Hardware Tools Co., Ltd.
Shanghai Tymex International Trade Co., Ltd.
Shanghai Yueda Nails Industry Co., Ltd.
Shanxi Hairui Trade Co., Ltd.
Shanxi Hairui Trade Co., Ltd.
Shanxi Pioneer Hardware Industrial Co., Ltd.
Shanxi Tianli Enterprise Co., Ltd.
Shanxi Tianli Industries Co., Ltd.
Shanxi Yuci Broad Wire Products Co., Ltd.
Shanxi Yuci Wire Material Factory.
Shaoguang International Trade Co.
Shaoxing Chengye Metal Producting Co., Ltd.
Shenyang Yulin International.
Shenzhen Changxinghongye Imp.
Shenzhen Erisson Technology Co., Ltd.
Shenzhen Meiyuda Trade Co., Ltd.
Shenzhen Pacific-Net Logistics Inc.
Shenzhen Shangqi Imports-Exports TR.
Shijiazhuang Anao Imp & Export Co., Ltd.
Shijiazhuang Fangyu Import & Export Corp.
Shijiazhuang Fitex Trading Co., Ltd.
Shijiazhuang Shuangjian Tools Co., Ltd.
Shitong Int'l Holding Limited.
Shouguang Meiqing Nail Industry Co., Ltd.
Sinochem Tianjin Imp & Exp Shenzhen Corp.
Sirius Global Logistics Co., Ltd.
S-Mart (Tianjin) Technology Development Co., Ltd.
Sunfield Enterprise Corporation.
Sunlife Enterprises (Yangjiang) Ltd.
Suntec Industries Co., Ltd.
Sunworld International Logistics.
Superior International Australia Pty Ltd.
Suzhou Guoxin Group Wangshun I/E Co. Imp. Exp. Co., Ltd.
Suzhou Xingya Nail Co., Ltd.
Suzhou Yaotian Metal Products Co., Ltd.
The Stanley Works (Langfang) Fastening Systems Co., Ltd.
Stanley Black & Decker, Inc.
Stanley Fastening Systems LP.
Shandex Industrial.
Telex Hong Kong Industry Co., Ltd.
The Everest Corp.
Thermwell Products.
Tian Jin Sundy Co., Ltd. (a/k/a/ Tianjin Sunny Co., Ltd.)
Tianjin Baisheng Metal Product Co., Ltd.
Tianjin Bosai Hardware Tools Co., Ltd.
Tianjin Chengyi International Trading Co., Ltd.
Tianjin Chentai International Trading Co., Ltd.
Tianjin City Dagang Area Jinding Metal Products Factory.
Tianjin City Daman Port Area Jinding Metal Products Factory.
Tianjin City Jinchi Metal Products Co., Ltd.
Tianjin Dagang Dongfu Metallic Products Co., Ltd.
Tianjin Dagang Hewang Nail Factory.
Tianjin Dagang Hewang Nails Manufacture Plant.
Tianjin Dagang Huasheng Nailery Co., Ltd.
Tianjin Dagang Jingang Nail Factory.
Tianjin Dagang Jingang Nails Manufacture Plant.
Tianjin Dagang Linda Metallic Products Co., Ltd.
Tianjin Dagang Longhua Metal Products Plant.
Tianjin Dagang Shenda Metal Products Co., Ltd.
Tianjin Dagang Yate Nail Co., Ltd.
Tianjin Dery Import and Export Co., Ltd.
Tianjin Everwin Metal Products Co., Ltd.
Tianjin Foreign Trade (Group) Textile & Garment Co., Ltd.
Tianjin Hewang Nail Making Factory.
Tianjin Huachang Metal Products Co., Ltd.
Tianjin Huapeng Metal Company.
Tianjin Huasheng Nails Production Co., Ltd.
Tianjin Jetcom Manufacturing Co., Ltd.
Tianjin Jieli Hengyuan Metallic Products Co., Ltd.
Tianjin Jietong Hardware Products Co., Ltd.
Tianjin Jietong Metal Products Co., Ltd.
Tianjin Jin Gang Metal Products Co., Ltd.
Tianjin Jinchi Metal Products Co., Ltd.
Tianjin Jinghai County Hongli Industry & Business Co., Ltd.
Tianjin Jinghai County Hongli Industry and Business Co., Ltd.
Tianjin Jinjin Pharmaceutical Factory Co., Ltd.
Tianjin Jishili Hardware Co., Ltd.
Tianjin JLHY Metal Products Co., Ltd.
Tianjin Jurun Metal Products Co., Ltd.
Tianjin Kunxin Hardware Co., Ltd.
Tianjin Kunxin Metal Products Co., Ltd.
Tianjin Lianda Group Co., Ltd.
Tianjin Linda Metal Company.
Tianjin Longxing (Group) Huanyu Imp. & Exp. Co., Ltd.
Tianjin Master Fastener Co., Ltd. (a/k/a Master Fastener Co., Ltd.)
Tianjin Mei Jia Hua Trade Co., Ltd.
Tianjin Metals and Minerals.
Tianjin Port Free Trade Zone Xiangtong Intl. Industry & Trade Corp.
Tianjin Products & Energy Resources Dev. Co., Ltd.
Tianjin Qichuan Metal Co., Ltd.
Tianjin Ruiji Metal Products Co., Ltd.
Tianjin Senbohengtong International.
Tianjin Senmiao Import and Export Co., Ltd.
Tianjin Shenyuan Steel Producting Group Co., Ltd.
Tianjin Shishun Metal Product Co., Ltd.
Tianjin Shishun Metallic Products Co., Ltd.
Tianjin Tailai Import Export.
Tianjin Universal Machinery Imp. & Exp. Corp. Ltd.
Tianjin Universal Machinery Imp & Exp Corporation.
Tianjin Xiantong Fucheng Gun Nail Manufacture Co., Ltd.
Tianjin Xiantong Juxiang Metal MFG Co., Ltd.
Tianjin Xiantong Material & Trade Co., Ltd.
Tianjin Xinyuansheng Metal Products Co., Ltd.
Tianjin Yihao Metallic Products Co., Ltd.
Tianjin Yongchang Metal Product Co., Ltd.
Tianjin Yongxu Metal Products Co., Ltd.
Tianjin Yongye Furniture.
Tianjin Yongyi Standard Parts Production Co., Ltd.
Tianjin Zhong Jian Wanli Stone Co., Ltd.
Tianjin Zhonglian Metals Ware Co., Ltd.
Tianjin Zhongsheng Garment Co., Ltd.
Tianwoo Logistics Developing Co., Ltd.
Topocean Consolidation Service (CHA) Ltd.
Traser Mexicana, S.A. De C.V.
Treasure Way International Dev. Ltd.
True Value Company (HK) Ltd.
Unicatch Industrial Co., Ltd.
Unigain Trading Co., Ltd.
Union Enterprise (Kunshan) Co., Ltd. a.k.a. Union Enterprise Co., Ltd.
Weifang Xiaotian Machine Co., Ltd.
Wenzhou KLF Medical Plastics Co., Ltd.
Wenzhou Ouxin Foreign Trade Co., Ltd.
Wenzhou Yuwei Foreign Trade Co., Ltd.
Winsmart International Shipping Ltd. O/B Zhaoqing Harvest Nails Co., Ltd.
Wintime Import & Export Corporation Limited of Zhongshan.
Worldwide Logistics Co., Ltd. (Tianjin Branch).
Wuhan Xinxin Native Produce & Animal By-Products Mfg. Co., Ltd.
Wuhu Sheng Zhi Industrial Co., Ltd.
Wuhu Shijie Hardware Co., Ltd.
Wuhu Xin Lan De Industrial Co., Ltd.
Wuqiao County Huifeng Hardware Products Factory.
Wuqiao County Xinchuang Hardware Products Factory.
Wuqiao Huifeng Hardware Production Co., Ltd.
Wuxi Baolin Nail Enterprises.
Wuxi Baolin Nail-Making Machinery Co., Ltd.
Wuxi Chengye Metal Products Co., Ltd.
Wuxi Colour Nail Co., Ltd.
Wuxi Qiangye Metalwork Production Co., Ltd.
Wuxi Jinde Assets Management Co., Ltd.
Wuxi Moresky Developing Co., Ltd.
Xiamen New Kunlun Trade Co., Ltd.
Xi'an Metals & Minerals Import and Export Co., Ltd.
Xi'an Steel.
XL Metal Works Co., Ltd.
XM International, Inc.
Xuzhou CIP International Group Co., Ltd.
Yeswin Corporation.
Yitian Nanjing Hardware Co., Ltd.
Yiwu Dongshun Toys Manufacture.
Yiwu Excellent Import & Export Co., Ltd.
Yiwu Jiehang Import & Export Co., Ltd.
Yiwu Qiaoli Import & Export Co., Ltd.
Yiwu Richway Imp & Exp Co., Ltd.
Yiwu Zhongai Toys Co., Ltd.
Yongcheng Foreign Trade Corp.
Yu Chi Hardware Co., Ltd.
Yue Sang Plastic Factory.
Yuhuan Yazheng Importing.
Zhangjiagang Lianfeng Metals Products Co., Ltd.
Zhangjiagang Longxiang Packing Materials Co.
Zhaoqing Harvest Nails Co., Ltd.
Zhejiang Gem-Chun Hardware Accessory Co., Ltd.
Zhejiang Hungyan Xingzhou Industria.
Zhejiang Jinhua Nail Factory.
Zhejiang Minmetals Sanhe Imp & Exp Co.
Zhejiang Qifeng Hardware Make Co., Ltd.
Zhejiang Taizhou Eagle Machinery Co.
Zhejiang Yiwu Huishun Import/Export Co., Ltd.
Zhongshan Junlong Nail Manufactures Co., Ltd.
ZJG Lianfeng Metals Product Ltd.
Laminated Woven Sacks,⁵ A-570-916 | 8/1/12-7/31/13
Cangnan Color Make the Bag.
Han Shing Corporation Limited.
Jiangsu Hotsun Plastics.
Ningbo Yong Feng Packaging Co., Ltd.
Polywell Industrial Co.
Shandong Qilu Plastic Fabric Group, Ltd.
Shandong Shouguang Jianyuanchun Co.
Shangong Youlian Subian Co., Ltd.
Zibo Aifudi Plastic Packaging Co., Ltd.
Polyethylene Retail Carrier Bags,⁶ A-570-886 | 8/1/12-7/31/13
Dongguan Nozawa Plastics Products Co., Ltd. and United Power Packaging, Ltd. (collectively Nozawa).
Countervailing Duty Proceedings
None.
Suspension Agreements
None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

³ If one of the above-named companies does not qualify for a separate rate, all other exporters of Certain Frozen Fish Fillets from the Socialist Republic of Vietnam who have not qualified for a separate rate are deemed to be covered by this review as part of the single PRC entity of which the named exporters are a part.

⁴ If one of the above-named companies does not qualify for a separate rate, all other exporters of Certain Steel Nails from the PRC who have not qualified for a separate rate are deemed to be covered by this review as part of the single PRC entity of which the named exporters are a part.

⁵ If one of the above-named companies does not qualify for a separate rate, all other exporters of Laminated Woven Sacks the PRC who have not qualified for a separate rate are deemed to be covered by this review as part of the single PRC entity of which the named exporters are a part.

⁶ If one of the above-named companies does not qualify for a separate rate, all other exporters of Polyethylene Retail Carrier Bags from the PRC who have not qualified for a separate rate are deemed to be covered by this review as part of the single PRC entity of which the named exporters are a part.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://ia.ita.doc.gov/frn/2013/1304frn/2013-08227.txt, prior to submitting factual information in this segment.

Any party submitting factual information in an antidumping duty or countervailing duty proceeding must certify to the accuracy and completeness of that information. See section 782(b) of the Act. Parties are hereby reminded that revised certification requirements are in effect for company/government officials as well as their representatives. Ongoing segments of any antidumping duty or countervailing duty proceedings initiated on or after March 14, 2011 should use the formats for the revised certifications provided at the end of the Interim Final Rule. See Certification of Factual Information to Import Administration During Antidumping and Countervailing Duty Proceedings: Interim Final Rule, 76 FR 7491 (February 10, 2011) (“Interim Final Rule”), amending 19 CFR 351.303(g)(1) and (2); Certification of Factual Information to Import Administration during Antidumping and Countervailing Duty Proceedings: Supplemental Interim Final Rule, 76 FR 54697 (September 2, 2011). All segments of any antidumping duty or countervailing duty proceedings initiated on or after August 16, 2013, should use the formats for the revised certifications provided at the end of the Final Rule. See Certification of Factual Information To Import Administration During Antidumping and Countervailing Duty Proceedings, 78 FR 42678 (July 17, 2013) (“Final Rule”); see also the frequently asked questions regarding the Final Rule, available at http://ia.ita.doc.gov/tlei/notices/factual_info_final_rule_FAQ_07172013.pdf. The Department intends to reject factual submissions in any proceeding segments if the submitting party does not comply with applicable revised certification requirements.

These initiations and this notice are in accordance with section 751(a) of the Act (19 U.S.C. 1675(a)) and 19 CFR 351.221(c)(1)(i).

Dated: September 24, 2013 .
Christian Marsh,
Deputy Assistant Secretary for Antidumping and Countervailing Duty Operations.

[FR Doc. 2013-23782 Filed 10-1-13; 8:45 am]

BILLING CODE 3510-DS-P